DEPARTMENT OF AGRICULTURE

Animal and Plant Health Inspection Service

[Docket No. APHIS-2015-0095]

Notice of Request for an Extension of Approval of an Information Collection; Specimen Submission

AGENCY: Animal and Plant Health Inspection Service, USDA.

ACTION: Extension of approval of an information collection; comment request.

SUMMARY: In accordance with the Paperwork Reduction Act of 1995, this notice announces the Animal and Plant Health Inspection Service's intention to request an extension of approval of an information collection associated with livestock disease surveillance programs.

DATES: We will consider all comments that we receive on or before April 11, 2016.

ADDRESSES: You may submit comments by either of the following methods:

• Federal eRulemaking Portal: Go to http://www.regulations.gov/#!docketDetail;D=APHIS-2015-0095.

• Postal Mail/Commercial Delivery: Send your comment to Docket No. APHIS-2015-0095, Regulatory Analysis and Development, PPD, APHIS, Station 3A-03.8, 4700 River Road Unit 118, Riverdale, MD 20737-1238.

Supporting documents and any comments we receive on this docket may be viewed at http://www.regulations.gov/#!docketDetail;D=APHIS-2015-0095 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information regarding livestock disease surveillance programs, contact Dr. Thomas Kasari, Veterinary Medical Officer, Surveillance, Preparedness, and Response Services, APHIS, 2150 Centre Avenue, Bldg B, Fort Collins, CO 80526; (970) 494-7351. For copies of more detailed information on the information collection, contact Ms. Kimberly Hardy, APHIS' Information Collection Coordinator, at (301) 851-2727.

SUPPLEMENTARY INFORMATION: Title: Specimen Submission.

OMB Control Number: 0579-0090.

Type of Request: Extension of approval of an information collection.

Abstract: The United States Department of Agriculture (USDA) is responsible for, among other things, preventing the interstate spread of livestock diseases and for eradicating such diseases from the United States when feasible.

In connection with this mission, Veterinary Services (VS) within USDA's Animal and Plant Health Inspection Service (APHIS) conducts numerous disease surveillance programs. A critical operational component of any surveillance program is the ability to systematically track the presence of disease pathogens as well as any vectors germane to the transmission of these pathogens. VS Forms 10-4/10-4A and VS Form 5-38 are a means to facilitate this tracking capability whenever specimens are submitted to APHIS' National Veterinary Services Laboratories for diagnostic testing. The VS Form 10-4 and its supplemental sheet (VS Form 10-4A) are routinely used whenever requests are made to perform laboratory diagnostic tests to identify disease pathogens in specimens, such as blood, milk, urine, or other tissues(s) collected from any animal, including cattle, swine, sheep, goats, horses, cervids, fish, and poultry. The VS Form 5-38, Parasite Submission Form, is used to track submission of ticks for identification as to their genus and species. The ticks are collected under the auspices of the Cattle Fever Tick Eradication Program and the National Tick Surveillance Program.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.315 hours per response.

Respondents: State veterinarians and other State personnel whom are qualified and authorized to collect and submit specimens for laboratory analysis, accredited veterinarians, private veterinarians, animal health technicians, herd owners, private laboratories, and research institutions.

Estimated annual number of respondents: 5,240.

Estimated annual number of responses per respondent: 5.278.

Estimated annual number of responses: 27,659.

Estimated total annual burden on respondents: 8,715 hours. (Due to averaging, the total annual burden hours may not equal the product of the annual number of responses multiplied by the reporting burden per response.)

All responses to this notice will be summarized and included in the request for OMB approval. All comments will also become a matter of public record.

Done in Washington, DC, this 5th day of February 2016.
Kevin Shea,
Administrator, Animal and Plant Health Inspection Service.

[FR Doc. 2016-02751 Filed 2-10-16; 8:45 am]

BILLING CODE 3410-34-P